DEPARTMENT OF EDUCATION

Office of Postsecondary Education; Overview Information; Gaining Early Awareness and Readiness for Undergraduate Programs; Notice Inviting Applications for New Awards for Fiscal Year (FY) 2008

Catalog of Federal Domestic Assistance (CFDA) Numbers: 84.334S (State grants) and 84.334A (Partnership grants).

Dates:

Applications Available: November 5, 2007.

Deadline for Transmittal of Applications: December 20, 2007.

Deadline for Intergovernmental Review: February 18, 2008.

Full Text of Announcement

I. Funding Opportunity Description

Purpose of Program: The purpose of the Gaining Early Awareness and Readiness for Undergraduate Programs (GEAR UP) is to support early college preparation and awareness activities for low-income students.

Priorities: Under these competitions we are particularly interested in applications that address one or more of the following priorities.

Invitational Priorities: For FY 2008 these priorities are invitational priorities. Under 34 CFR 75.105(c)(1) we do not give an application that meets these invitational priorities a competitive or absolute preference over other applications.

These priorities are:

Invitational Priority 1: State applicants are encouraged to include plans to develop and administer an assessment in the tenth grade, eleventh grade, or both to determine whether GEAR UP students are adequately prepared for postsecondary education. Assessments would include math skills, language skills, and other content areas or skills the applicants believe are sound indicators of preparedness for college-level work.

The Secretary will review the results of this invitational priority (including the number of applicants who include information responsive to this priority and whether any grantees develop and administer an assessment), and may propose to modify the regulations in 34 CFR 694 for GEAR UP to require that grantees conduct an assessment of this kind of the students receiving services through GEAR UP partnership or State grants.

Invitational Priority 2: State and Partnership applicants are encouraged to include plans to engage faith-based and community organizations in the delivery of services under this program.

Invitational Priority 3: State and Partnership applicants are encouraged to include plans to align their activities with the States' rigorous secondary school program of study options recognized by the Secretary for that State under the Academic Competitiveness Grant (ACG) Program or that reflect the secondary school program of study recognized as rigorous by the Secretary under 34 CFR 691.16(d)(2) of the ACG Program. The recognized secondary school programs of study for each State for students graduating in 2007 can be found at the following Web site: http://www.ed.gov/admins/finaid/about/ac-smart/2007/state-programs-07.html. Plans should include strategies for documenting completion of the rigorous secondary school program of study on high school transcripts.

Invitational Priority 4: State and Partnership applicants are encouraged to include plans to provide information to school personnel, students, and parents about the rigorous secondary school program of study requirements for an ACG as defined in 34 CFR 691.16.

Invitational Priority 5: State and Partnership applicants are encouraged to include plans to provide supportive services that help students meet the rigorous secondary school program of study requirements for an ACG as defined in 34 CFR 691.16.

Program Authority: 20 U.S.C. 1070a-21.

Applicable Regulations: (a) The Education Department General Administrative Regulations (EDGAR) in 34 CFR parts 74, 75, 77, 79, 80, 81, 82, 84, 85, 86, 97, 98, and 99.

(b) The regulations for this program in 34 CFR part 694.

Note: The regulations in 34 CFR part 79 apply to all applicants except Federally recognized Indian tribes.

Note: The regulations in 34 CFR part 86 apply to institutions of higher education (IHEs) only.

II. Award Information

Type of Award: Discretionary grants.

Estimated Available Funds: The Administration has requested $303,423,120 for this program for FY 2008, of which we intend to use an estimated $44,700,000 for these competitions. The actual level of funding, if any, depends on final congressional action. However, we are inviting applications to allow enough time to complete the grant process if Congress appropriates funds for this program.

Contingent upon the availability of funds and the quality of applications, we may make additional awards in FY 2009 from the list of unfunded applicants from these competitions.

Estimated Range of Awards: State grants: $2,800,000-$3,000,000. Partnership grants: $100,000-$7,000,000.

Estimated Average Size of Awards: State grants: $2,900,000. Partnership grants: $800,000.

Maximum Award: We will reject any application for a State grant that proposes a budget exceeding $3,000,000 for a single budget period of 12 months. We will reject any application for a partnership grant that proposes a budget exceeding $800 per student for a single budget period of 12 months. We also will reject any State or partnership grant application that proposes an increase in its budget after the first 12-month budget period. The Assistant Secretary for Postsecondary Education may change the maximum amounts through a notice published in the Federal Register.

Estimated Number of Awards: State grants: 7. Partnership grants: 30.

Note: The Department is not bound by any estimates in this notice.

Project Period: Up to 72 months.

III. Eligibility Information

1. Eligible Applicants: (1) A State; or (2) a partnership consisting of (A) one or more local educational agencies acting on behalf of (i) one or more elementary schools or secondary schools, and (ii) the secondary schools that students from the schools described in (i) would normally attend; (B) one or more degree granting IHE; and (C) at least two community organizations or entities, such as businesses, professional associations, community-based organizations, philanthropic organizations, State agencies, institutions or agencies sponsoring programs authorized under subpart 4 of Part A of Title IV of the Higher Education Act of 1965, as amended (HEA), or other public or private agencies or organizations.

Note: For State grants, the fiscal agent/applicant must be a single State agency as designated by the State's Governor. For partnership grants, the fiscal agent/applicant must be either an IHE or a local educational agency.

2. Cost Sharing or Matching: Section 404C of the HEA requires grantees under this program to provide not less than 50 percent of the total cost of the project over six years. By regulation, a partnership may propose a non-Federal contribution of less than 50 percent, but not less than 30 percent of the total cost of the project, if the partnership includes three or fewer IHEs as members and meets the high-need criteria in 34 CFR 694.7(b)(2). The non-Federal share of project costs may be in cash or in-kind. The Department will hold applicants accountable for the matching commitment proposed in the application for funding, even if the proposed match is higher than the percent required by statute.

3. Other: For State grants, at least 25 percent, and not more than 50 percent of grant funds must be spent on early college preparation and awareness, and at least 50 percent of grant funds must be spent on postsecondary scholarships to eligible GEAR UP students. The Secretary may waive the scholarship percentage requirement if the applicant demonstrates that it has another means of providing the students with financial assistance.

IV. Application and Submission Information

1. Address To Request Application Package: You can obtain an application package via the Internet by downloading the package from the program Web site at: http://www.ed.gov/programs/gearup/index.html.

You also can request a copy of the application package from the following: Angela Oliphant, Gaining Early Awareness and Readiness for Undergraduate Programs, U.S. Department of Education, 1990 K Street, NW., Room 6133, Washington, DC 20006-8524. Telephone: (202) 502-7676 or by e-mail: angela.oliphant@ed.gov.

If you use a telecommunications device for the deaf (TDD), call the Federal Relay Service (FRS), toll free, at 1-800-877-8339.

Individuals with disabilities can obtain a copy of the application package in an alternative format (e.g., Braille, large print, audiotape, or computer diskette) by contacting the program contact person listed in this section.

2. Content and Form of Application Submission: Requirements concerning the content of an application, together with the forms you must submit, are in the application packages for these competitions.

Page Limit: The application narrative is where you, the applicant, address the selection criteria that reviewers use to evaluate your application. You must limit the application narrative (Part III) to no more than 40 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use one of the following fonts: Times New Roman, Courier, Courier New, or Arial. An application submitted in any other font (including Times Roman and Arial Narrow) will not be accepted.

• Use a font that is either 12-point or larger or no smaller than 10 pitch (characters per inch).

The page limit does not apply to the cover sheet; the budget section, including the narrative budget justification; the assurances and certifications; or the one-page abstract.

We will reject your application if you exceed the page limit.

3. Submission Dates and Times:

Applications Available: November 5, 2007.

Deadline for Transmittal of Applications: December 20, 2007.

Applications for grants under this program must be submitted electronically using the Grants.gov Apply site (Grants.gov). For information (including dates and times) about how to submit your application electronically, or in paper format by mail or hand delivery if you qualify for an exception to the electronic submission requirement, please refer to section IV. 6. Other Submission Requirements in this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice.

Deadline for Intergovernmental Review: February 18, 2008.

4. Intergovernmental Review: These competitions are subject to Executive Order 12372 and the regulations in 34 CFR part 79. Information about Intergovernmental Review of Federal Programs under Executive Order 12372 is in the application packages for these competitions.

5. Funding Restrictions: We reference regulations outlining funding restrictions in the Applicable Regulations section of this notice.

6. Other Submission Requirements: Applications for grants under these competitions must be submitted electronically unless you qualify for an exception to this requirement in accordance with the instructions in this section.

a. Electronic Submission of Applications.

Applications for grants under the GEAR UP State and Partnership Competitions, CFDA Numbers 84.334S and CFDA 84.334A, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for GEAR UP at http://www.Grants.gov. You must search for the downloadable application packages for these competitions by the CFDA number. Do not include the CFDA number's alpha suffix in your search (e.g., search for 84.334, not 84.334A or 84.334S).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application packages for these competitions to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Angela Oliphant, U.S. Department of Education, 1990 K Street, NW., Room 6133, Washington, DC 20006-8524. Fax: (202) 502-7675.

Your paper application must be submitted in accordance with the mail or hand delivery instructions described in this notice.

b. Submission of Paper Applications by Mail.

If you qualify for an exception to the electronic submission requirement, you may mail (through the U.S. Postal Service or a commercial carrier) your application in paper format to the Department. You must mail the original and two copies of your application, on or before the application deadline date, to the Department at the applicable following address:

By mail through the U.S. Postal Service: U.S. Department of Education, Application Control Center, Attention: (CFDA Number 84.334A or 84.334S), 400 Maryland Avenue, SW., Washington, DC 20202-4260; or

By mail through a commercial carrier: U.S. Department of Education, Application Control Center, Stop 4260, Attention: (CFDA Number 84.334A or 84.334S), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your application in paper format to the Department by hand. You must deliver the original and two copies of your application by hand, on or before the application deadline date, to the Department at the following address: U.S. Department of Education, Application Control Center, Attention: (CFDA Number 84.334A or 84.334S), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for these programs are from 34 CFR 75.210 of EDGAR and are listed in the application package.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The objectives of the GEAR UP program are—(1) to increase the academic performance and preparation for postsecondary education of participating students; (2) to increase the rate of high school graduation and participation in postsecondary education of participating students; and (3) to increase educational expectations for participating students and student and family knowledge of postsecondary education options, preparation, and financing.

The effectiveness of this program depends on the rate at which program participants complete high school and enroll in and complete a postsecondary education. We developed the following performance measures to track progress toward achieving the program's goals:

1. The percentage of GEAR UP students who passed Algebra 1 by the end of the 9th grade.

2. The percentage of GEAR UP students who have knowledge of necessary academic preparation for college.

3. The percentage of GEAR UP students who graduated from high school.

4. The percentage of former GEAR UP students who are enrolled in college.

In addition, to assess the efficiency of the program, we track the average cost in federal funds, of achieving a successful outcome, where success is defined as enrollment in postsecondary education of GEAR UP students immediately after high school graduation. These performance measures constitute GEAR UP's indicators of the success of the program. Grant recipients must collect and report data on steps they have taken toward achieving these goals. Accordingly, we request that applicants include these performance measures in conceptualizing the design, implementation, and evaluation of their proposed projects.

VII. Agency Contact

For Further Information Contact: Angela Oliphant, Gaining Early Awareness and Readiness for Undergraduate Programs, U.S. Department of Education, 1990 K Street, NW., Room 6133, Washington, DC 20006-8524. Telephone: (202) 502-7676 or by e-mail: angela.oliphant@ed.gov.

If you use a TDD, call the FRS, toll free, at 1-800-877-8339.

VIII. Other Information

Alternative Format: Individuals with disabilities can obtain this document and a copy of the application package in an alternative format (e.g., Braille, large print, audiotape, or computer diskette) on request to the program contact person listed under For Further Information Contact in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Diane Auer Jones,
Assistant Secretary for Postsecondary Education.

[FR Doc. E7-21692 Filed 11-2-07; 8:45 am]

BILLING CODE 4000-01-P